DEPARTMENT OF STATE

[Public Notice 5193]

30-Day Notice of Proposed Information Collection: Form DS-3083, Training Registration (For Non-U.S. Government Persons), OMB Control No. 1405-0145

ACTION: Notice of request for public comment and submission to OMB of proposed collection of information.

SUMMARY: The Department of State has submitted the following information collection request to the Office of Management and Budget (OMB) for approval in accordance with the Paperwork Reduction Act of 1995.

• Title of Information Collection: Training Registration (for non-U.S. Government Persons).

• OMB Control Number: 1405-0145.

• Type of Request: Extension of a Currently Approved Collection.

• Originating Office: Foreign Service Institute (FSI).

• Form Number: DS-3083.

• Respondents: Respondents are non-U.S. government persons and/or their eligible family members, authorized by Public Law 105-277 to receive training delivered by the Foreign Service Institute on a reimbursable or advance of funds basis.

• Estimated Number of Respondents: 200.

• Estimated Number of Responses: 200.

• Average Hours per Response: 0.5.

• Total Estimated Burden: 100.

• Frequency: On occasion.

• Obligation to Respond: Required To Obtain or Retain a Benefit.

DATES: Submit comments to the Office of Management and Budget (OMB) for up to 30 days from September 23, 2005.

ADDRESSES: Direct comments and questions to Katherine Astrich, the Department of State Desk Officer in the Office of Information and Regulatory Affairs at the Office of Management and Budget (OMB), who may be reached at (202) 395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: (202) 395-6974.

FOR FURTHER INFORMATION CONTACT: You may obtain copies of the proposed information collection and supporting documents from Wayne A. Oshima, Foreign Service Institute, Office of Management, U.S. Department of State, Washington, DC 20522-4201, who may be reached on (703) 302-6730, or via e-mail at oshimawa@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This data collection tool is to be used to obtain information from non-U.S. Government persons so that they can enroll in courses offered by the Department of State's Foreign Service Institute. This includes information of a personal and business nature, and credit card information so that the Department can receive reimbursement.

Methodology

This information will be collected in hard copy format, which is either mailed or transmitted by facsimile machine to the Foreign Service Institute.

Dated: September 7, 2005.
Catherine J. Russell,
Executive Director, Foreign Service Institute, Department of State.

[FR Doc. 05-19053 Filed 9-22-05; 8:45 am]

BILLING CODE 4710-34-P